DEPARTMENT OF HEALTH AND HUMAN SERVICES

National Committee on Vital and Health Statistics: Meeting

Pursuant to the Federal Advisory Committee Act, the Department of Health and Human Services (HHS) announces the following advisory committee meeting.

Name: National Comittee on Vital and Health Statistics (NCVHS) Subcommittee on Privacy and Confidentiality.

Time and Date: April 17, 2007, 9 a.m.-5 p.m.

Place: Hilton Embassy Row, 2015 Massachusetts Avenue, NW., Washington, DC 20036.

Status: Open.

Purpose: The purpose of this session will be to discuss consumer controls for sensitive health records.

For Further Information Contact: Substantive program information as well as summaries of meetings and a roster of committee members may be obtained from Maya A. Berstein, Lead Staff for Subcommittee on Privacy and Confidentiality, Office of the Assistant Secretary for Planning and Evaluation, 434E Hubert H. Humphrey Building, 200 Independence Avenue, SW., Washington, DC 20201; telephone (202) 690-7100; or Marjorie S. Greenberg, Executive Secretary, NcVHS, National Center for Health Statistics, Centers for Disease Control and Prevention, 3311 Toledo Road, Room 2402, Hyattsville, Maryland 20782; telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: April 10, 2007.
James Scanlon,
Deputy Assistant Secretary for Planning and Evaluation (OSDP), Office of the Assistant Secretary for Planning and Evaluation.

[FR Doc. 07-1885 Filed 4-16-07; 8:45am]

BILLING CODE 4151-05-M